DEPARTMENT OF COMMERCE

International Trade Administration

[A-570-847]

Persulfates from the People's Republic of China: Extension of Time Limit for Preliminary Results in Antidumping Duty Administrative Review

AGENCY: Import Administration, International Trade Administration, Department of Commerce.

ACTION: Extension of Time Limit for Preliminary Results of Antidumping Duty Administrative Review.

EFFECTIVE DATE: February 27, 2003.

FOR FURTHER INFORMATION CONTACT: Michael Strollo at (202) 482-0629, Office of AD/CVD Enforcement, Import Administration, International Trade Administration, U.S. Department of Commerce, 14th Street and Constitution Avenue, N.W., Washington D.C. 20230.

SUPPLEMENTARY INFORMATION: On August 27, 2002, the Department published in the Federal Register a notice of initiation of administrative review of the antidumping duty order on persulfates from the People's Republic of China. See Initiation of Antidumping and Countervailing Duty Administrative Reviews and Requests for Revocation in Part, 67 FR 55000 (Aug. 27, 2002). The period of review is July 1, 2001 through June 30, 2002. The review covers one exporter of the subject merchandise to the United States.

In accordance with section 751(a)(3)(A) of the Tarriff Act of 1930, as amended (the Act), the Department shall make a preliminary determination in an administrative review of an antidumping duty order within 245 days after the last day of the anniversary month of the date of publication of the order. The Act further provides, however, that the Department may extend the 245-day period to 365 days if it determines it is not practicable to complete the review within the foregoing time period. Due to the respondent's request for a partial revocation of the antidumping duty order, and the fact that the Department needs sufficient time to conduct a verification in this proceeding, it is not practicable to complete this review within the time limit mandated by section 751(a)(3)(A) of the Act. Therefore, in accordance with section 751(a)(3)(A) of the Act, we have fully extended the deadline until July 31, 2003.

Dated: February 21, 2003.
Susan Kuhbach,
Acting Deputy Assistant Secretaryfor Import Administration.

[FR Doc. 03-4653 Filed 2-26-03; 8:45 am]

BILLING CODE 3510-DS-S